DEPARTMENT OF COMMERCE

National Oceanic and Atmospheric Administration

[RTID 0648-XA861]

Pacific Fishery Management Council; Public Meeting

AGENCY: National Marine Fisheries Service (NMFS), National Oceanic and Atmospheric Administration (NOAA), Commerce.

ACTION: Notice of public online workshop.

SUMMARY: The Pacific Fishery Management Council (Pacific Council) and the NMFS Northwest and Southwest Fisheries Science Centers will hold an online workshop to review data and analyses proposed to inform new assessments for lingcod and vermilion/sunset rockfishes scheduled to be conducted this year. The workshop is open to the public.

DATES: The pre-assessment workshop will be held Monday, March 29, 2021, beginning at 1 p.m., Pacific Daylight Time and continuing until business for the day has been completed, no later than 4 p.m.

ADDRESSES: The pre-assessment workshop will be an online meeting. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the pre-assessment workshop is to review data and analyses proposed to inform 2021 assessments for lingcod and vermilion/sunset rockfishes. Stock assessment teams will solicit advice from data stewards, stakeholders, and fishery managers knowledgeable about these stocks and these data to prepare for these assessments.

No management actions will be decided by the workshop participants. The participants' role will be development of recommendations for consideration by the stock assessment teams assigned to conduct these assessments. Assessments for these stocks are tentatively scheduled for peer review in July 2021 Stock Assessment Review (STAR) panels (July 12-16 for lingcod and July 26-30 for vermilion/sunset rockfishes). The Pacific Council and the Pacific Council's Scientific and Statistical Committee are scheduled to consider these draft assessments for use in informing management decisions at their September 2021 meeting.

Although non-emergency issues not contained in the meeting agendas may be discussed, those issues may not be the subject of formal action during this meeting. Action will be restricted to those issues specifically listed in this notice and any issues arising after publication of this notice that require emergency action under Section 305(c) of the Magnuson-Stevens Fishery Conservation and Management Act, provided the public has been notified of the intent of the workshop participants to take final action to address the emergency.

Special Accommodations

Requests for sign language interpretation or other auxiliary aids should be directed to Mr. Kris Kleinschmidt at (503) 820-2412 at least 10 days prior to the meeting date.

(Authority: 16 U.S.C. 1801 et seq.)

Dated: February 19, 2021.
Tracey L. Thompson,
Acting Deputy Director, Office of Sustainable Fisheries, National Marine Fisheries Service.

[FR Doc. 2021-03822 Filed 2-23-21; 8:45 am]

BILLING CODE 3510-22-P